DEPARTMENT OF LABOR

Employment and Training Administration

Proposed Information Collection Request; Submitted for Public Comment and Recommendations; Trade Act Participant Report (TAPR)

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed revision of the collection of the Trade Act Participant Report (TAPR). (OMB Control No. 1205-0392)

DATES: Submit comments on or before July 13, 2004.

ADDRESSES: Submit comments to Erin FitzGerald, Program Analyst, Division of Trade Adjustment Assistance, Employment and Training Administration, U.S. Department of Labor, Room C-5311, 200 Constitution Ave., NW., Washington, DC 20210, telephone 202-693-3506 (this is not a toll-free number), FAX 202-693-3585, e-mail fitzgerald.erin@dol.gov.

FOR FURTHER INFORMATION CONTACT: Erin FitzGerald, Program Analyst, Division of Trade Adjustment Assistance, Employment and Training Administration, U.S. Department of Labor, Room C-5311, 200 Constitution Ave., NW., Washington, DC 20210, telephone 202-693-3506 (this is not a toll-free number) FAX 202-693-3585, e-mail fitzgerald.erin@dol.gov.

SUPPLEMENTARY INFORMATION: I. Background: On June 16, 1998, the Office of Management and Budget (OMB) approved a GPRA-compliant performance and participant outcomes data system for the Division of Trade Adjustment Assistance (DTAA); this system was revised in 2000 and is now known as the Trade Act Participant Report (TAPR). States implemented the TAPR beginning with the first quarter of fiscal year 1999 (October through December, 1998), and have continued to collect and report data every quarter since then.

II. Desired Focus of Comments: Currently, the Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request (ICR) can be obtained by contacting the office listed above in the addresses section of this notice.

III. Current Actions: The Department of Labor is currently seeking to revise the TAPR with minimal changes that reflect expanded services implemented under the Trade Act of 2002. The Department intends to more substantially revise the collection of outcomes information later in the calendar year 2004 and incorporate the data collected on the TAPR into the common data collection system used to collect program data under the OMB common measures. The common data collection elements will be available for future public comment in 2004.

Type of Review: Revision.

Agency: Employment and Training Administration.

Title: Trade Act Participant Report (TAPR).

OMB Number: 1205-0392.

Affected Public: State governments.

Total Respondents: 50.

Average Time per Response: 47.5 hours per quarter.

Frequency: Quarterly.

Average Time per Response: 40 hours per week.

Estimated Total Burden Hours: 9,500.

Total Burden Cost (capital/startup): 0.

Total Burden Cost (operating/maintaining): $325.

Comments submitted in response to this notice will be summarized and/or included in the request for Office of Management and Budget approval of the information collection request; they will also become a matter of public record.

Dated: May 7, 2004.
Emily Stover DeRocco,
Assistant Secretary, Employment and Training Administration.

[FR Doc. 04-10963 Filed 5-13-04; 8:45 am]

BILLING CODE 4510-30-P